DEPARTMENT OF AGRICULTURE

Rural Utilities Service

7 CFR Part 1726

Electric System Construction Policies and Procedures

CFR Correction

In Title 7 of the Code of Federal Regulations, Parts 1600 to 1759, revised as of January 1, 2013, on page 246, in § 1726.14, the second definition of Minor modification or improvement is removed.

[FR Doc. 2013-27735 Filed 11-18-13; 8:45 am]

BILLING CODE 1505-01-D